DEPARTMENT OF COMMERCE

International Trade Administration

[A-570-051, C-570-052]

Certain Hardwood Plywood Products From the People's Republic of China: Preliminary Results of Administrative Reviews of the Antidumping and Countervailing Duty Orders, Preliminary Determinations of No Shipments, and Partial Rescissions; 2023

AGENCY: Enforcement and Compliance, International Trade Administration, Department of Commerce.

SUMMARY: The U.S. Department of Commerce (Commerce) preliminarily finds that there were no shipments of certain hardwood plywood products (hardwood plywood) from the People's Republic of China (China) during the period of review (POR) January 1, 2023, through December 31, 2023, for certain companies under review. We are also rescinding these reviews with respect to 64 companies in the antidumping duty (AD) review, and five companies in the countervailing duty (CVD) review. We invite interested parties to comment on these preliminary results.

DATES: Applicable May 13, 2025.

FOR FURTHER INFORMATION CONTACT: Rachel Jennings, AD/CVD Operations, Office V, Enforcement and Compliance, International Trade Administration, U.S. Department of Commerce, 1401 Constitution Avenue NW, Washington, DC 20230; telephone: (202) 482-1110.

SUPPLEMENTARY INFORMATION:

Background

On January 4, 2018, Commerce published in the Federal Register the AD and CVD orders on hardwood plywood from China.¹ On January 2, 2024, Commerce published in the Federal Register a notice of opportunity to request an administrative review of the Orders covering entries of hardwood plywood from China from January 1, 2023, through December 31, 2023.² On March 5, 2024, based on timely requests for administrative reviews, Commerce initiated the AD administrative review with respect to 68 companies ³ and initiated the CVD administrative review with respect to nine companies.⁴

¹ See Certain Hardwood Plywood Products from the People's Republic of China: Amended Final Determination of Sales at Less Than Fair Value, and Antidumping Duty Order, 83 FR 504 (January 4, 2018); see also Certain Hardwood Plywood Products from the People's Republic of China: Countervailing Duty Order, 83 FR 513 (January 4, 2018) (collectively, Orders).

² See Antidumping or Countervailing Duty Order, Finding, or Suspended Investigation; Opportunity to Request Administrative Review and Join Inquiry Service List, 89 FR 63 (January 2, 2024).

³ See Initiation of Antidumping and Countervailing Duty Administrative Reviews, 89 FR 15827 (March 5, 2024).

⁴ Id. We note that Govina Investment Joint Stock Company (Govina) and Greatwood Hung Yen Joint Stock Company (Greatwood Hung Yen) were inadvertently listed on the same line in the CVD portion of the initiation notice.

On March 26, 2024, and July 2, 2024, Commerce released entry data from U.S. Customs and Border Protection (CBP) to interested parties for comment in the AD and CVD proceedings.⁵ Subsequently, we notified parties of our intent to rescind this administrative review with respect to 64 of the 68 companies subject to the AD review, and one of the nine companies subject to the CVD review, because they had no suspended entries during the POR.⁶

⁵ See Memoranda, “CBP Data Release,” dated March 26, 2024 (AD); and “CBP Data Release,” dated July 2, 2024 (CVD).

⁶ See Memoranda, “Notice of Intent to Rescind Review, In Part,” dated September 25, 2024 (AD), and “Notice of Intent to Rescind Review, In Part,” dated October 11, 2024 (CVD) (collectively, Intent to Rescind Memoranda).

On April 4 and 18, 2024, in the AD review, we received timely no-shipment certifications and separate rate applications (SRAs), respectively, from four companies for which we did not state our intent to rescind this review.⁷

⁷ See Eagle Industries Company Limited (Eagle)'s Letters, “No Sales Certification,” dated April 4, 2024, and “Eagle Industries SRA,” dated April 11, 2024; see also Golden Bridge Industries Pte. Ltd. (Golden Bridge)'s Letters, “No Sales Certification,” dated April 4, 2024, and “Golden Bridge SRA,” dated April 11, 2024; Greatwood Hung Yen's Letters, “No Sales Certification,” dated April 4, 2024, and “Greatwood Hung Yen SRA,” dated April 18, 2024; and Lechenwood Viet Nam Company Limited (Lechenwood)'s Letters, “No Sales Certification,” dated April 4, 2024, and “Lechenwood SRA,” dated April 18, 2024.

On July 22, 2024, Commerce tolled certain deadlines in these administrative proceedings by seven days.⁸ On September 23, 2024, and October 2, 2024, we issued memoranda extending the deadline for the preliminary results of the AD and CVD reviews by 120 days.⁹ On December 9, 2024, Commerce tolled certain deadlines in these administrative proceedings by 90 days.¹⁰ The deadline for the preliminary results of the AD and CVD reviews is now May 7, 2025. For details regarding the events that occurred subsequent to the initiation of the reviews, see the Preliminary Decision Memorandum.¹¹ The Preliminary Decision Memorandum is a public document and is made available to the public via Enforcement and Compliance's Antidumping and Countervailing Duty Centralized Electronic Service System (ACCESS). ACCESS is available to registered users at http://access.trade.gov. In addition, a complete version of the Preliminary Decision Memorandum is available at https://access.trade.gov/public/FRNoticesListLayout.aspx. A list of topics discussed in the Preliminary Decision memorandum is included in Appendix III to this notice.

⁸ See Memorandum, “Tolling of Deadlines for Antidumping and Countervailing Duty Proceedings,” dated July 22, 2024.

⁹ See Memoranda, “Extension of Deadline for Preliminary Results of Antidumping Duty Administrative Review,” dated September 23, 2024; and “Extension of Deadline for Preliminary Results of Countervailing Duty Administrative Review,” dated October 2, 2024.

¹⁰ See Memorandum, “Tolling of Deadlines for Antidumping and Countervailing Duty Proceedings,” dated December 9, 2024.

¹¹ See Memorandum, “Decision Memorandum for the Preliminary Results of the Administrative Reviews of the Antidumping Duty Order and Countervailing Duty Order on Certain Hardwood Plywood Products from the People's Republic of China, Preliminary Determinations of No Shipments, and Partial Rescissions; 2023,” dated concurrently with, and hereby adopted by, this notice (Preliminary Decision Memorandum).

Scope of the Order

The merchandise covered by the scope of the Orders is hardwood plywood from China. A complete description of the scope of the Orders is contained in the Preliminary Decision Memorandum.

Rescission of Administrative Reviews, in Part

Pursuant to 19 CFR 351.213(d)(1), Commerce will rescind an administrative review, in whole or in part, if the party that requested a review withdraws the request within 90 days of the date of the publication of the notice of initiation. On January 31, 2024, (1) Govina Investment Joint Stock Company (Govina), (2) Groll Ply and Cabinetry Co., Ltd. (Groll Ply), 3) Huong Son Wood Group Co., Ltd. (Huong Son), and (4) Thang Long Wood Panel Company (Thang Long) requested review of their exports under the Orders.¹² On April 24, 2024, and May 1, 2024, Govina, Groll Ply, Huong Son, and Thang Long withdrew their requests for review in the AD and CVD reviews.¹³ Because the requests for review were timely withdrawn for Govina, Groll Ply, Huong Son, and Thang Long, and because no other party requested reviews of these companies, in accordance with 19 CFR 351.213(d)(1), Commerce is rescinding these reviews for Govina, Groll Ply, Huong Son, and Thang Long.

¹² See Govina, Groll, Huong Son, and Thang Long's Letter, “Certain Hardwood Plywood Products from the People's Republic of China: Administrative Review Request,” dated January 31, 2024 (filed on the AD/CVD records).

¹³ See Govina, Groll, Huong Son, and Thang Long's Letters, “Withdrawal of Administrative Review Request,” dated April 24, 2024 (AD); and “Withdrawal of Administrative Review Request,” dated April 24, 2024 (CVD).

Pursuant to 19 CFR 351.213(d)(3), when there are no reviewable entries of subject merchandise during the POR subject to the AD or CVD order for which liquidation is suspended, Commerce may rescind an administrative review, in whole or only with respect to a particular exporter or producer.¹⁴ At the end of the administrative review, any suspended entries are liquidated at the assessment rate computed for the review period.¹⁵ Therefore, for an administrative review to be conducted, there must be a reviewable, suspended entry to be liquidated at the newly calculated assessment rate. On September 25, 2024, and October 11, 2024, respectively, Commerce notified all interested parties of its intent to rescind the AD and CVD reviews with respect to certain companies because those companies had no reviewable, suspended entries of subject merchandise and invited parties to comment.¹⁶ We received no comments on our intent to rescind the reviews with respect to these companies. Accordingly, in the absence of suspended entries of subject merchandise during the POR for these companies under review, we are hereby rescinding these administrative reviews, in part, with respect to these companies, in accordance with 19 CFR 351.213(d)(3). See Appendix II for a list of all companies for which Commerce is rescinding these reviews.

¹⁴ See, e.g., Forged Steel Fittings from Taiwan: Rescission of Antidumping Duty Administrative Review; 2018-2019, 85 FR 71317, 71318 (November 9, 2020); see also Certain Circular Welded Non-Alloy Steel Pipe from Mexico: Rescission of Antidumping Duty Administrative Review; 2016-2017, 83 FR 54084 (October 26, 2018).

¹⁵ See 19 CFR 351.212(b)(1).

¹⁶ See Intent to Rescind Memoranda.

Methodology

Commerce is conducting these reviews in accordance with section 751(a)(1) of the Tariff Act of 1930, as amended (the Act) and 19 CFR 351.213. For a full description of the methodology underlying these preliminary results, see the Preliminary Decision Memorandum. See Appendix III for a complete list of topics discussed in the Preliminary Decision Memorandum.

Preliminary Determinations of No Shipments

In these administrative reviews, we issued a questionnaire to Eagle, Golden Bridge, Greatwood Hung Yen, and Lechenwood to gather information on the quantity and value of their shipments of hardwood plywood to the United States.¹⁷ All four companies reported that they had no shipments of subject merchandise during the POR.¹⁸ As a result of an inquiry into whether hardwood plywood exported from the Socialist Republic of Vietnam (Vietnam) was circumventing the Orders, Commerce established a certification program that allows eligible exporters to certify that their shipments of plywood from Vietnam were not produced using certain inputs from China.¹⁹ Eagle, Golden Bridge, and Lechenwood are currently not eligible to certify their shipments of plywood. Therefore, we issued these companies “certification eligibility” questionnaires to collect information about the companies' production process and material inputs. The three companies all reported that their suspended entries consisted exclusively of non-subject merchandise.²⁰ We have analyzed the information in these responses, which was consistent with the types of information we have examined in prior segments, and preliminarily find that all of the companies have provided information to support their claims that the hardwood plywood they exported to the United States are of non-subject plywood, and thus, they had no shipments of subject plywood from China during the POR.

¹⁷ See Commerce's Letter, “Quantity and Value Questionnaire,” dated September 26, 2024.

¹⁸ See Eagle's Letter, “Eagle Quantity & Value Response,” dated October 10, 2024; see also Golden Bridge's Letter, “Golden Bridge Quantity & Value Response,” dated October 10, 2024; Greatwood Hung Yen's Letter, “Greatwood HY Quantity & Value Response,” dated October 10, 2024 (Greatwood Hung Yen's Q&V Response); and Lechenwood's Letter, “Lechenwood Quantity & Value Response,” dated October 10, 2024.

¹⁹ See Certain Hardwood Plywood Products from the People's Republic of China: Final Scope Determination and Affirmative Final Determination of Circumvention of the Antidumping and Countervailing Duty Orders, 88 FR 46740 (July 20, 2023) (Circumvention Final Determination), and accompanying Issues and Decision Memorandum (IDM).

²⁰ See Eagle's Letter, “Eagle Certification Eligibility Questionnaire Response,” dated March 24, 2025 (Eagle's CEQR); see also Golden Bridge's Letter, “Golden Bridge Certification Eligibility Questionnaire Response,” dated March 24, 2025 (Golden Bridge's CEQR); and Lechenwood's Letter, “Lechenwood Certification Eligibility Questionnaire Response,” dated March 14, 2025 (Lechenwood's CEQR).

The fourth respondent, Greatwood Hung Yen, is currently eligible to certify that its entries of hardwood plywood shipped from Vietnam are not subject to the Orders, but was unable to certify certain of its shipments at the time of entry because Greatwood Hung Yen became eligible to participate in the certification program under these Orders near the mid-point of the POR.²¹ Therefore, at Commerce's request, Greatwood Hung Yen submitted the certifications that would have accompanied its entries had the company been permitted to submit the certifications at the time of entry.²² Based on these certifications, we preliminarily find that Greatwood Hung Yen had no shipments of plywood from China during the POR.

²¹ See Circumvention Final Determination IDM at 76.

²² See Greatwood Hung Yen's Q&V Response.

China-Wide Entity

Commerce's policy regarding conditional review of the China-wide entity applies to the AD administrative review.²³ Under this policy, the China-wide entity will not be under review unless a party specifically requests, or Commerce self-initiates, a review of the China-wide entity.²⁴ Because no party requested a review of the China-wide entity, the China-wide entity is not under review. For additional information, see the Preliminary Decision Memorandum.

²³ See Antidumping Proceedings: Announcement of Change in Department Practice for Respondent Selection in Antidumping Duty Proceedings and Conditional Review of the Nonmarket Economy Entity in NME Antidumping Duty Proceedings, 78 FR 65963 (November 4, 2013).

²⁴ Id.

Separate Rates

In the AD administrative review, we have not addressed the separate rate status of the four companies subject to this review because we preliminarily determine that they had no entries of subject merchandise during the POR. For additional information, see the Preliminary Decision Memorandum.

Certification Eligibility

Eagle, Golden Bridge, and Lechenwood are currently ineligible to certify that their shipments of hardwood plywood from Vietnam are not subject to the Orders ²⁵ All three of these respondents have requested that they be eligible to participate in the certification program in place for entries of hardwood plywood exported from Vietnam.²⁶ With respect to these requests, we are currently evaluating the certification eligibility of these three exporters in the 2021-2022 administrative review of these Orders, and the determinations in those reviews are forthcoming.²⁷ We preliminarily find it appropriate to apply the certification eligibility determinations made in the forthcoming final results of the 2021-2022 administrative reviews to the respondents in the final results of these reviews.

²⁵ See Circumvention Final Determination IDM.

²⁶ See Eagle's CEQR; see also Golden Bridge's CEQR; and Lechenwood's CEQR.

²⁷ See Certain Hardwood Plywood Products from the People's Republic of China: Preliminary Results of Antidumping Duty Administrative Review, Preliminary Determination of No Shipments, and Partial Recission; 2021-2022, 89 FR 66346 (August 15, 2024), and accompanying Preliminary Decision Memorandum (PDM); and Certain Hardwood Plywood Products from the People's Republic of China: Preliminary Results of Countervailing Duty Administrative Review, Preliminary Determination of No Shipments, and Partial Rescission; 2021-2022, 89 FR 66343 (August 15, 2024), and accompanying PDM.

Public Comment

In accordance with 19 CFR 351.309(c)(1)(ii), interested parties may submit case briefs or other written comments to the Assistant Secretary for Enforcement and Compliance at a date to be determined. Rebuttal briefs, limited to issues raised in case briefs, may be submitted no later than five days after the deadline for case briefs.²⁸ Pursuant to 19 CFR 351.309(c)(2) and (d)(2), parties who submit case briefs or rebuttal briefs in these reviews are encouraged to submit with each argument: (1) a statement of the issue; (2) a brief summary of the argument; and (3) a table of authorities.

²⁸ See 19 CFR 351.309; see also 19 CFR 351.303 (for general filing requirements).

As provided under 19 CFR 351.309(c)(2) and (d)(2), in prior proceedings we have encouraged interested parties to provide an executive summary of their briefs that should be limited to five pages total, including footnotes. In these reviews, we instead request that interested parties provide at the beginning of their briefs a public, executive summary for each issue raised in their briefs.²⁹ Further, we request that interested parties limit their executive summary of each issue to no more than 450 words, not including citations. We intend to use the executive summaries as the basis of the comment summaries included in the issues and decision memorandum that will accompany the final results in these reviews. We request that interested parties include footnotes for relevant citations in the executive summary of each issue. Note that Commerce has amended certain of its requirements pertaining to the service of documents in 19 CFR 351.303(f).³⁰

²⁹ We use the term “issue” here to describe an argument that Commerce would normally address in a comment of the Issues and Decision Memorandum.

³⁰ See Administrative Protective Order, Service, and Other Procedures in Antidumping and Countervailing Duty Proceedings, 88 FR 67069, 67077 (September 29, 2023).

Pursuant to 19 CFR 351.310(c), interested parties who wish to request a hearing, limited to issues raised in the case and rebuttal briefs, must submit a written request to the Assistant Secretary for Enforcement and Compliance, U.S. Department of Commerce, within 30 days after the date of publication of this notice. Requests should contain: (1) the party's name, address, and telephone number, and the number of participants; (2) whether any participant is a foreign national; and (3) a list of the issues to be discussed. If a request for a hearing is made, Commerce intends to hold the hearing at a date and time to be determined. Parties should confirm by telephone the date, time, and location of the hearing two days before the scheduled date.

Assessment Rates—AD and CVD

Upon issuance of the final results of these reviews, for all entries of merchandise exported by the companies listed in Appendix I, we intend to instruct CBP to liquidate the entries without regard to AD/CVD duties if these preliminary results are unchanged for the final results. Commerce intends to issue assessment instructions to CBP no earlier than 35 days after the date of publication of the final results of this review in the Federal Register. If a timely summons is filed at the U.S. Court of International Trade (CIT), the assessment instructions will direct CBP not to liquidate relevant entries until the time for parties to file a request for a statutory injunction has expired (i.e., within 90 days of publication).

For the companies (see Appendix II) for which this review is rescinded with these preliminary results, we will instruct CBP to assess AD/CVD duties on all appropriate entries at a rate equal to the cash deposit of estimated AD/CVD duties required at the time of entry, or withdrawal from warehouse, for consumption, during the period January 1, 2023, through December 31, 2023, in accordance with 19 CFR 351.212(c)(l)(i). Commerce intends to issue assessment instructions to CBP for such companies no earlier than 35 days after the date of publication of the preliminary results of these reviews in the Federal Register. If a timely summons is filed at the CIT, the assessment instructions will direct CBP not to liquidate relevant entries until the time for parties to file a request for a statutory injunction has expired (i.e., within 90 days of publication).

Cash Deposit Requirements—AD

The following cash deposit requirements will be effective upon publication of the final results of the AD administrative review for shipments of subject merchandise, entered, or withdrawn from warehouse, for consumption on or after the publication date of the final results of this administrative review, as provided by section 751(a)(2)(C) of the Act: (1) the cash deposit rates for the four companies that had no shipments during the POR will remain unchanged from the rates assigned to them in the most recently completed segment for each company; (2) for previously investigated or reviewed exporters that have separate rates, the cash deposit rate will continue to be the exporter-specific rate published for the most recently completed segment of this proceeding; (3) for all Chinese exporters of subject merchandise that have not been found to be entitled to a separate rate, the cash deposit rate will be the rate for the China-wide entity (i.e., 114.72 percent); (4) for all non-Chinese exporters of subject merchandise that have not received their own rate, the cash deposit rate will be the rate applicable to the exporter that supplied that non-Chinese exporter, where available, or the rate for the China-wide entity (i.e., 114.72), if no alternate rate is available. These deposit requirements, when imposed, shall remain in effect until further notice.

Cash Deposit Requirements—CVD

For all firms for which we rescind the CVD review or make a no shipment determination, we will instruct CBP to continue to collect cash deposits of estimated countervailing duties at the most recent company-specific or all-others rate applicable to the company. These cash deposit instructions, when imposed, shall remain in effect until further notice.

Final Results of Review

Unless otherwise extended, Commerce intends to issue the final results of these administrative reviews, which will include the results of its analysis of issues raised in any briefs, within 120 days of publication of these preliminary results of review, pursuant to section 751(a)(3)(A) of the Act.

Notification to Importers

This notice also serves as a reminder to importers of their responsibility under 19 CFR 351.402(f)(2) to file a certificate regarding the reimbursement of antidumping and/or countervailing duties prior to liquidation of the relevant entries during this POR. Failure to comply with this requirement could result in Commerce's presumption that reimbursement of antidumping and/or countervailing duties occurred and the subsequent assessment of double antidumping duties.

Notification to Interested Parties

These preliminary results of administrative review are issued and published in accordance with sections 751(a)(1) and 777(i)(l) of the Act, and 19 CFR 351.221(b)(4).

Dated: May 7, 2025.
Christopher Abbott,
Deputy Assistant Secretary for Policy and Negotiations, performing the non-exclusive functions and duties of the Assistant Secretary for Enforcement and Compliance.

Appendix I

Participating Companies Which Reported No POR Shipments of Subject Merchandise

1. Eagle Industries Company Limited

2. Golden Bridge Industries Pte. Ltd

3. Greatwood Hung Yen Joint Stock Company

4. Lechenwood Viet Nam Company Limited

Appendix II

Companies Rescinded From Review

A. AD Review

Companies for Which All Review Requests Were Withdrawn

1. Govina Investment Joint Stock Company

2. Groll Ply and Cabinetry Co., Ltd.

3. Huong Son Wood Group Co., Ltd.

4. Thang Long Wood Panel Company

Companies With No Suspended Entries During the POR

5. Anhui Hoda Wood Co., Ltd.

6. Arrow Forest International Co., Ltd

7. Bizlink Technology Inc.

8. BTR New Material Group Co., Ltd.

9. Celtic Co., Ltd

10. China Friend Limited

11. Cosco Star International Co., Ltd.

12. Dalian Sicily Wood Industry Co., Ltd.

13. First Part Manufacturing Limited

14. Fujian Yuansheng Wood., Ltd

15. Fusong Jinlong Wooden Group Co., Ltd

16. Golder International Trade Co., Ltd

17. Happy Wood Industrial Group Co., Ltd.

18. Huainan Mengping Import and Export Co., Ltd

19. Jiangsu Top Point International Co., Ltd

20. Jiaxing Gsun Imp. & Exp. Co., Ltd

21. Jiangsu High Hope Arser Co., Ltd

22. Jiaxing Hengtong Wood Co., Ltd.

23. Linyi City Dongfeng Fukai Wood Industry Co., Ltd

24. Linyi City Shenrui International Trade Co., Ltd

25. Linyi Dahua Wood Co., Ltd

26. Linyi Dongstar Import & Export Co., Ltd.

27. Linyi Evergreen Wood Co., Ltd.

28. Linyi Glary Plywood Co., Ltd.

29. Linyi Hengsheng Wood Industry Co., Ltd

30. Linyi Huasheng Yongbin Wood Co., Ltd.

31. Linyi Jiahe Wood Industry Co., Ltd.

32. Linyi Linhai Wood Co., Ltd

33. Linyi Mingzhu Wood Co., Ltd

34. Phihong Technology Co., Ltd.

35. Pingyi Jinniu Wood Co., Ltd

36. Linyi Sanfortune Wood Co., Ltd.

37. Lianyungang Yuantai International Trade Co., Ltd

38. Qingdao Good Faith Import and Export Co., Ltd

39. Qingdao Top P&Q International Corp.

40. Shandong Qishang International Trading Co., Ltd

41. Shanghai Brightwood Trading Co., Ltd.

42. Shanghai Futuwood Trading Co., Ltd.

43. Shanghai Luli Trading Co., Ltd.

44. Shenzhen Kedali Industry Co., Ltd.

45. Suining Pengxiang Wood Co., Ltd

46. Sumec International Technology Co., Ltd

47. Sun Chain Trading Co., Ltd.

48. Suqian Hopeway International Trade Co., Ltd.

49. Suzhou Dongsheng Wood Co., Ltd

50. Suzhou Fengshuwan Import and Exports Trade Co., Ltd

51. Suzhou Oriental Dragon Import and Export Co., Ltd.

52. Xuzhou Andefu Wood Co., Ltd

53. Xuzhou DNT Commercial Co., Ltd

54. Xuzhou Eastern Huatai International Trading Co., Ltd

55. Xuzhou Jiangheng Wood Products Co., Ltd.

56. Xuzhou Longyuan Wood Industry Co., Ltd

57. Xuzhou Pinlin International Trade Co., Ltd

58. Xuzhou Shengping Imp and Exp Co., Ltd

59. Xuzhou Shelter Import & Export Co., Ltd

60. Xuzhou Shuner Import & Export Trade Co., Ltd

61. Xuzhou Timber International Trade Co., Ltd.

62. Zhejiang Layo Wood Industry Co., Ltd

63. Zhejiang Xingke Wood Co., Ltd

64. Zhejiang Yuhua Timber Co., Ltd

B. CVD Review

Companies for Which All Review Requests Were Withdrawn

1. Govina Investment Joint Stock Company

2. Groll Ply and Cabinetry Co., Ltd.

3. Huong Son Wood Group Co., Ltd.

4. Thang Long Wood Panel Company

Companies With No Suspended Entries During the POR

5. Arrow Forest International Co., Ltd

Appendix III

List of Topics Discussed in the Preliminary Decision Memorandum

I. Summary

II. Background

III. Scope of the Orders

IV. Rescission of Administrative Reviews, In Part

V. Discussion of Methodology

VI. Recommendation

[FR Doc. 2025-08408 Filed 5-12-25; 8:45 am]

BILLING CODE 3510-DS-P